DEPARTMENT OF COMMERCE

Foreign-Trade Zones Board

[Order No. 1143]

Expansion of Foreign-Trade Zone 183, Austin, TX

Pursuant to its authority under the Foreign-Trade Zones Act of June 18, 1934, as amended (19 U.S.C. 81a-81u), the Foreign-Trade Zones Board (the Board) adopts the following Order:

Whereas, the Foreign-Trade Zone of Central Texas, Inc., grantee of Foreign-Trade Zone 183, submitted an application to the Board for authority to expand FTZ 183—Site 3 at the High-Tech Corridor site in Austin, Texas, within the Austin Customs port of entry (FTZ Docket 21-2000; filed 5/26/00);

Whereas, notice inviting public comment was given in the Federal Register (65 FR 35603, 6/5/00) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 183-Site 3 is approved, subject to the Act and the Board's regulations, including Section 400.28, and subject to the Board's standard 2,000-acre activation limit.

Signed at Washington, DC, this 15th day of March 2001.
Timothy J. Hauser,
Acting Under Secretary for International Trade, Alternate Chairman, Foreign-Trade Zones Board.

[FR Doc. 01-7557 Filed 3-26-01; 8:45 am]

BILLING CODE 3510-DS-P